DEPARTMENT OF ENERGY

Agency Information Collection Extension

AGENCY: Department of Energy.

ACTION: Submission for Office of Management and Budget (OMB) review; comment request.

SUMMARY: The Department of Energy (DOE) has submitted an information collection package to the OMB for extension under the provisions of the Paperwork Reduction Act of 1995. The package requests a three-year extension of its collection of information concerning annual applications from the owners of qualified renewable energy generation facilities for the consideration of Renewable Energy Production Incentive (REPI) payments, OMB Control Number 1910-0068. This information collection package covers information necessary to determine if an applicant's facility qualifies for these payments and to determine the amount of net electricity produced that qualifies for these payments and ensures that the government has sufficient information to ensure the proper use of public funds for these incentive payments.

DATES: Comments regarding this collection must be received on or before September 3, 2004. If you anticipate that you will be submitting comments, but find it difficult to do so within the period of time allowed by this notice, please advise the OMB Desk Officer of your intention to make a submission as soon as possible. The Desk Officer may be telephoned at 202-395-3122.

ADDRESSES: Written comments should be sent to DOE Desk Officer, Office of Information and Regulatory Affairs, Office of Management and Budget, New Executive Office Building, Room 10102, 735 17th Street, NW., Washington, DC 20503.

Comments should also be addressed to Susan L. Frey, Director, Records Management Division, IM-11/Germantown Bldg., Office of the Chief Information Officer, U.S. Department of Energy, 1000 Independence Avenue, SW., Washington, DC 20585-1290, or e-mail at susan.frey@im.doe.gov; and to Dan Beckley, Energy Efficiency and Renewable Energy, EE-2K/Forrestal Bldg., U.S. Department of Energy, 1000 Independence Avenue, SW., Washington, DC 20585, or e-mail at dan.beckley@ee.doe.gov.

FOR FURTHER INFORMATION CONTACT: The DOE persons listed in ADDRESSEES.

SUPPLEMENTARY INFORMATION: This package contains: (1) OMB No.: 1910-0068; (2) Package Title: Renewable Energy Production Incentive; (3) Purpose: To provide required information to receive consideration for payment for qualified renewable energy electricity produced in the prior fiscal year; (4) Estimated Number of Respondents: 75 (5) Estimated Total Burden Hours: 450; (6) Number of Collections: The package contains 75 (one per grantee annually) information and/or recordkeeping requirements.

Statutory Authority: Energy Policy Act of 1992, Pub. L. 102-486, 42 U.S.C. 13317.
Issued in Washington, DC, on July 27, 2004.
Susan L. Frey,
Director, Records Management Division, Office of the Chief Information Officer.

[FR Doc. 04-17733 Filed 8-3-04; 8:45 am]

BILLING CODE 6450-01-P